Title 3—

The President

Executive Order 13840 of June 19, 2018

Ocean Policy To Advance the Economic, Security, and Environmental Interests of the United States

By the authority vested in me as President by the Constitution and the laws of the United States of America, it is hereby ordered as follows:

Section 1. Purpose. The ocean, coastal, and Great Lakes waters of the United States are foundational to the economy, security, global competitiveness, and well-being of the United States. Ocean industries employ millions of Americans and support a strong national economy. Domestic energy production from Federal waters strengthens the Nation's security and reduces reliance on imported energy. Our Armed Forces protect our national interests in the ocean and along the Nation's coasts. Goods and materials that support our economy and quality of life flow through maritime commerce. Our fisheries resources help feed the Nation and present tremendous export opportunities. Clean, healthy waters support fishing, boating, and other recreational opportunities for all Americans.

This order maintains and enhances these and other benefits to the Nation through improved public access to marine data and information, efficient interagency coordination on ocean-related matters, and engagement with marine industries, the science and technology community, and other ocean stakeholders. To advance these national interests, this order recognizes and supports Federal participation in regional ocean partnerships, to the extent appropriate and consistent with national security interests and statutory authorities.

Sec. 2. Policy. It shall be the policy of the United States to:

(a) coordinate the activities of executive departments and agencies (agencies) regarding ocean-related matters to ensure effective management of ocean, coastal, and Great Lakes waters and to provide economic, security, and environmental benefits for present and future generations of Americans;

(b) continue to promote the lawful use of the ocean by agencies, including United States Armed Forces;

(c) exercise rights and jurisdiction and perform duties in accordance with applicable domestic law and—if consistent with applicable domestic law—international law, including customary international law;

(d) facilitate the economic growth of coastal communities and promote ocean industries, which employ millions of Americans, advance ocean science and technology, feed the American people, transport American goods, expand recreational opportunities, and enhance America's energy security;

(e) ensure that Federal regulations and management decisions do not prevent productive and sustainable use of ocean, coastal, and Great Lakes waters;

(f) modernize the acquisition, distribution, and use of the best available ocean-related science and knowledge, in partnership with marine industries; the ocean science and technology community; State, tribal, and local governments; and other ocean stakeholders, to inform decisions and enhance entrepreneurial opportunity; and

(g) facilitate, as appropriate, coordination, consultation, and collaboration regarding ocean-related matters, consistent with applicable law, among Federal, State, tribal, and local governments, marine industries, the ocean science and technology community, other ocean stakeholders, and foreign governments and international organizations.

Sec. 3. Definitions. For the purposes of this order, the following definitions apply:

(a) “Ocean-related matters” means management, science, and technology matters involving the ocean, coastal, and Great Lakes waters of the United States (including its territories and possessions), and related seabed, subsoil, waters superadjacent to the seabed, and natural resources.

(b) “Regional ocean partnership” means a regional organization of coastal or Great Lakes States, territories, or possessions voluntarily convened by governors to address cross-jurisdictional ocean matters, or the functional equivalent of such a regional ocean organization designated by the governor or governors of a State or States.

Sec. 4. Interagency Coordination. (a) To ensure appropriate coordination by Federal agencies on ocean-related matters, there is hereby established the interagency Ocean Policy Committee (Committee).

(i) The Committee shall consist of the following:

(1) The Chairman of the Council on Environmental Quality (CEQ) and the Director of the Office of Science and Technology Policy (OSTP), who shall serve as Co-Chairs;

(2) The Secretary of State, Secretary of Defense, Attorney General, Secretary of the Interior, Secretary of Agriculture, Secretary of Commerce, Secretary of Transportation, Secretary of Energy, Secretary of Homeland Security, Administrator of the Environmental Protection Agency, Director of the Office of Management and Budget, Administrator of the National Aeronautics and Space Administration, Director of the National Science Foundation, Director of National Intelligence, Chairman of the Joint Chiefs of Staff, Under Secretary of Commerce for Oceans and Atmosphere, Assistant Secretary of the Army (Civil Works), and Commandant of the Coast Guard;

(3) The Assistants to the President for National Security Affairs, Homeland Security and Counterterrorism, Domestic Policy, and Economic Policy;

(4) A representative from the Office of the Vice President designated by the Vice President; and

(5) Such other officers or employees of the Federal Government as the Co-Chairs may from time to time designate.

(b) The Co-Chairs, in coordination with the Assistants to the President for National Security Affairs, Homeland Security and Counterterrorism, Domestic Policy, and Economic Policy, shall regularly convene and preside at meetings of the Committee, determine its agenda, and direct its work, and shall establish and direct subcommittees of the Committee as appropriate. The Committee shall, as appropriate, establish subcommittees with responsibility for advising the Committee on matters pertaining to ocean science and technology and ocean-resource management.

(i) Committee members may designate, to perform their Committee or subcommittee functions, any person who is within their department, agency, or office who is:

(1) a civilian official appointed by the President;

(2) a member of the Senior Executive Service or the Senior Intelligence Service;

(3) a general officer or flag officer; or

(4) an employee of the Office of the Vice President.

(ii) Consistent with applicable law and subject to the availability of appropriations, OSTP or CEQ shall provide the Committee with funding, including through the National Science and Technology Council pursuant to title VII, section 723 of the Consolidated Appropriations Act, 2018 (Public Law 115-141), or any successor provision, or through the Office of Environmental Quality pursuant to the Office of Environmental Quality Management Fund, 42 U.S.C. 4375. OSTP or CEQ shall, to the extent permitted by law and subject to the availability of appropriations, provide administrative support as needed to implement this order.

(iii) The Committee shall be administered by an Executive Director and such full-time staff as the Co-Chairs recommend.

Sec. 5. Functions. To implement the policy set forth in section 2 of this order, the Committee shall, to the extent permitted by law:

(a) provide advice regarding policies concerning ocean-related matters to:

(i) the President; and

(ii) the head of any agency who is a member of the Committee;

(b) engage and collaborate, under existing laws and regulations, with stakeholders, including regional ocean partnerships, to address ocean-related matters that may require interagency or intergovernmental solutions;

(c) coordinate the timely public release of unclassified data and other information related to the ocean, coasts, and Great Lakes that agencies collect, and support the common information management systems, such as the Marine Cadastre, that organize and disseminate this information;

(d) coordinate and inform the ocean policy-making process and identify priority ocean research and technology needs, to facilitate:

(i) the use of science in the establishment of policy; and

(ii) the collection, development, dissemination, and exchange of information between and among agencies on ocean-related matters;

(e) coordinate and ensure Federal participation in projects conducted under the National Oceanographic Partnership Program through the Committee's members, as appropriate, to maximize the effectiveness of agency investments in ocean research; and

(f) obtain information and advice concerning ocean-related matters from:

(i) State, tribal, and local governments; and

(ii) private-sector entities and individuals.

Sec. 6. Cooperation. To the extent permitted by law, agencies shall cooperate with the Committee and provide it such information as it, through the Co-Chairs, may request. The Committee shall base its decisions on the consensus of its members. With respect to those matters for which consensus cannot be reached, the Assistant to the President for National Security Affairs shall coordinate with the Co-Chairs to present the disputed issue or issues for decision by the President. Within 90 days of the date of this order, agencies shall review their regulations, guidance, and policies for consistency with this order, and shall consult with CEQ, OSTP, and the Office of Management and Budget (OMB) regarding any modifications, revisions, or rescissions of any regulations, guidance, or policies necessary to comply with this order.

Sec. 7. Revocation. Executive Order 13547 of July 19, 2010 (Stewardship of the Ocean, Our Coasts, and the Great Lakes), is hereby revoked.

Sec. 8. General Provisions. (a) Nothing in this order shall be construed to impair or otherwise affect:

(i) the authority granted by law to an executive department, agency, or the head thereof;

(ii) the functions of the Director of OMB relating to budgetary, administrative, or legislative proposals; or

(iii) functions assigned by the President to the National Security Council or Homeland Security Council (including subordinate bodies) relating to matters affecting foreign affairs, national security, homeland security, or intelligence.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 19, 2018.

[FR Doc. 2018-13640

Filed 6-21-18; 11:15 am]

Billing code 3295-F8-P